DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 66 FR 1363-1364, dated January 8, 2001) is amended to reorganize the Division of Violence Prevention, National Center for Injury Prevention and Control.

Section C-B, Organization and Functions, is hereby amended as follows:

Delete the functional statement for the Division of Violence Prevention (CE4), National Center for Injury Prevention and Control (CE), and insert the following:

(1) Provides leadership in developing and executing a national program for the prevention and control of non-occupational violence-related injuries and death which addresses, but is not limited to, youth violence, intimate partner violence, sexual violence, suicide, elder abuse, and child abuse; (2) develops and disseminates policies, recommendations, and guidelines for the prevention of violence and its consequences; (3) proposes goals and objectives for national violence prevention and control programs, monitors progress toward these goals and objectives, and recommends and develops guidelines for priority prevention and control activities; (4) facilitates similar strategic planning activities by other Federal, State, and local agencies, academic institutions, and private and other public organizations; (5) plans, directs, conducts, and supports research focused on the causes of violence and the development and evaluation of strategies to prevent and control violence-related injuries and deaths; (6) plans, establishes, and evaluates surveillance systems to monitor national trends in morbidity, mortality, disabilities, and cost of violence-related injuries and deaths, and facilitates the development of surveillance systems by State and local agencies; (7) plans, conducts, supports, and evaluates demonstration projects and programs to prevent and control violence; (8) provides technical assistance, consultation, training, and eipemiological, statistical, educational, and other technical services to assist State and local health departments and community-based organizations in the planning, development, implementation, evaluation, and overall improvement of violence prevention programs; (9) supports the dissemination of research findings and transfer of violence prevention and control technologies to Federal, State, and local agencies, private organizations, and other national and international groups; (10) in carrying out the above functions, collaborates with other Divisions of NICIPC, CDC Centers/Institute/Offices, HHS, other Federal, State, and local departments and agencies, academic institutions, and voluntary, private sector, and international organizations, as appropriate.

Office of the Director (CE41). (1) Plans, directs, and evaluates the activities of the Division; (2) provides national leadership and guidance in policy formation and program planning, development, and evaluation; (3) provides administrative, fiscal, and technical support for Division programs and units; (4) assures multi-disciplinary collaboration in violence prevention and control activities; (5) provides leadership for developing research in etiologic, epidemiologic, and behavioral aspects of violence prevention and control, and for coordinating activities within the Division and others involved in violence prevention; (6) prepares, edits, and monitors clearance of manuscripts for publication in scientific and technical journals and publications, including articles and guidelines published in the “MMWR,” and other publications for the public; (7) prepares, tracks and coordinates controlled and general correspondence; (8) prepares responses and coordinates provision of materials requested by Congress and the Department of Health and Human Services; (9) coordinates international violence prevention and control activities of the Division; (10) collaborates, as appropriate, with other divisions and offices in NCIPC, and with other CIOs throughout CDC; (11) collaborates, as appropriate, with non-governmental organizations to achieve the mission of the Division, (12) establishes linkages with other CIOs and national level prevention partners that impact on violence prevention programs.

Etiology and Surveillance Branch (CE42). (1) Plans, directs, conducts, and supports research focused on identifying high-risk population groups, causal factors, and other risk and protective factors, including psychosocial, cultural, and contextual determinants, for violence and its consequences; (2) conducts national surveillance and surveys of violence and its consequences, analyzes incidence and prevalence data, and monitors trends in violence and its trajectory across the lifespan; (3) identifies research findings and technologies that have potential to prevent or control violence and its consequences; (4) assists State and local health agencies to establish violence surveillance systems and to utilize surveillance data to describe the state or local burden of violence; (5) designs and conducts other etiologic and epidemiologic research that contributes to scientific knowledge regarding violence; (6) monitors activities of contracts, cooperative agreements, and grants to ensure operational objectives are being met; (7) provides information on violence surveillance and epidemiology to the scientific community and the general public through publications and presentations that include, but are not limited to, quantitative syntheses; (8) works with other branches to stimulate the development, evaluation, and dissemination of intervention and prevention strategies; (9) provides leadership and expands collaborations with other Federal, State, local, voluntary, professional and international organizations in all aspects of surveillance and etiologic research activities of violence and its consequences.

Prevention Development and Evaluation Branch (CE43). (1) Plans, directs, conducts, and supports applied research focused on the development and evaluation of strategies and interventions to prevent violence-related injuries and deaths; (2) develops and evaluates methodologies for conducting program evaluation; (3) evaluates the effectiveness, costs, and impact of violence prevention interventions, strategies, policies, and programs as practiced or implemented by public health agencies and organizations at the national/regional and state/local levels; (4) uses research findings to develop and improve the impact of interventions to reduce risk factors for violent behavior and its consequences; (5) assesses socioeconomic, educational, and other factors for use in targeting and evaluating prevention programs; (6) collaborates in the application of evaluation findings and techniques to the ongoing assessment and improvement of violence prevention and control programs; (7) conducts research activities that include economic evaluations of violence prevention, including assessment of alternative prevention strategies to encourage the best use of prevention resources; (8) applies evaluation methods to improve violence prevention activities, including serving as a resource to other branches, grantees, and prevention partners in the development of methods to support systematic assessment and continuous improvement of violence prevention programs; (9) monitors activities of contracts, cooperative agreements, and grants to ensure operational objectives are being met; (10) works with other branches to stimulate etiologic research, surveillance, and programmatic activities; (11) contributes to the intervention research literature by publishing regularly in peer-reviewed journals and CDC-sponsored publications that include, but are not limited to, the synthesis of the implementation and evaluation of violence prevention and intervention strategies; (12) collaborates with other components within CDC and HHS and other Federal agencies, national professional, voluntary and philanthropic organizations and international agencies.

Program Implementation and Dissemination Branch (CE44). (1) Provides programmatic leadership and support for violence prevention and control programs at the state, local, and community levels through the development and dissemination of policies, recommendations, and guidelines for the prevention of violence and its consequences; (2) conducts research to examine the processes and factors that influence effective and efficient translation, diffusion, and sustainability of intervention research findings to violence prevention programs; (3) works with other Division branches to synthesize, translate, and disseminate research findings applicable to violence prevention program managers, practitioners, and policy-makers through training, conferences, newsletters, and other means; (4) provides technical consultation, support, and services to national, State, and local health agencies, and non-governmental organizations to plan, develop, and implement violence prevention programs and to evaluate the overall quality and effectiveness of prevention activities; (5) assesses training and technical assistance needs and develops strategies to address the training of grantee organizations, other external partners involved in violence prevention programs and activities, and Division staff; (96) monitors, tracks, and assesses program activities in state-based violence prevention programs; (7) develops and maintains liaison and collaborative relationships with professional, community, international, and voluntary agencies involved in violence prevention and control activities; (8) provides linkages between health department violence programs and other governmental and non-governmental agencies, and managed care community or private medical sector to enhance and evaluate violence prevention services in public and private health care delivery systems; (9) monitors activities of contracts, cooperative agreements, and grants to ensure operational objectives are being met; (10) produces and provides scientific, statistical, visual, and technical information and materials on violence prevention for dissemination to health care professionals, public health officials, prevention partners, the media, and the general public, through publications, newsletters, bibliographies, press releases, public service announcements, and other electronic and printed materials; (11) maintains a specialized collection of violence resources that includes subject files and reprints of CDC-authored publications and “MMWR” articles; (12) works closely with relevant offices or groups, including the NCIPC Office of Communication Resources and the CDC Office of Communication, to secure appropriate clearance of materials; (13) implements national violence prevention public information programs and assists in developing strategic communications activities and services at the national level to inform and educate the American public about violence, especially people who are at greatest risk.

Dated: March 5, 2001.
Jeffrey P. Koplan,
Director.

[FR Doc. 01-6281 Filed 3-13-01; 8:45 am]

BILLING CODE 4160-18-M